DEPARTMENT OF DEFENSE

Office of the Secretary of Defense

Establishment of the Technology and Privacy Advisory Committee

AGENCY: Department of Defense.

ACTION: Notice of establishment.

SUMMARY: The Technology and Privacy Advisory Committee (TAPAC) is being established in consonance with public interest and in accordance with the provisions of Pub. L. 92-463, the “Federal Advisory Committee Act,” title 5 U.S.C., Appendix 2. The TAPAC will advise the Secretary of Defense concerning the legal and policy considerations implicated by the application of pattern queries/data correlation technology to counter-terrorism and counter-intelligence missions.

The Panel will consist of up to 14 members selected on the basis of their preeminence in the fields of constitutional law and public policy relating to communication and information management.

FOR FURTHER INFORMATION CONTACT: Lisa Davis, Office of the Under Secretary of Defense (Acquisition, Technology, and Logistics), on 703-697-0051.

Dated: March 3, 2003.
Patricia L. Toppings,
Alternate OSD Federal Register Liaison Officer, Department of Defense.

[FR Doc. 03-5532 Filed 3-7-03; 8:45 am]

BILLING CODE 5001-08-M